DEPARTMENT OF THE INTERIOR

Bureau of Indian Affairs

[190A2100DD/AAKC001030/A0A501010.999900 253G]

Advisory Board of Exceptional Children; Meeting

AGENCY: Bureau of Indian Affairs, Interior.

ACTION: Notice of meeting.

SUMMARY: The Bureau of Indian Education (BIE) is announcing that the Advisory Board for Exceptional Children will hold its next meeting in Albuquerque, New Mexico. The purpose of the meeting is to meet the mandates of the Individuals with Disabilities Education Act of 2004 (IDEA) for Indian children with disabilities.

DATES: The Advisory Board will hold an orientation session for members only on Wednesday, May 1, 2019, from 8:30 a.m. to 11:30 a.m. Mountain Time. The public meeting of the Advisory Board meeting will start Wednesday, May 1, 2019, from 1:00 p.m. to 4:30 p.m. On Thursday, May 2, 2019, and Friday, May 3, 2019, all Advisory Board members will meet in-session from 8:30 a.m. to 4:30 p.m. Mountain Time.

ADDRESSES: The orientation and public meetings will be held at the 1011 Indian School Road NW, Large Conference Room 326, in Albuquerque, New Mexico 87104; telephone number (480) 777-7986.

FOR FURTHER INFORMATION CONTACT: Jennifer Davis, Designated Federal Officer, Bureau of Indian Education, 2600 N. Central Avenue, Suite 800, Phoenix, Arizona 85004, email at jennifer.davis@bie.edu or telephone number (480) 777-7986.

SUPPLEMENTARY INFORMATION: In accordance with the Federal Advisory Committee Act, the BIE is announcing that the Advisory Board will hold its next meeting in Albuquerque, New Mexico. The Advisory Board was established under the Individuals with Disabilities Act of 2004 (20 U.S.C. 1400 et seq.) to advise the Secretary of the Interior, through the Assistant Secretary—Indian Affairs, on the needs of Indian children with disabilities. The meeting is open to the public.

The following items will be on the agenda:

• Orientation session for new Advisory Board members

• Report from Tony Dearman, Director, BIE Director's Office

• Report from Dr. Jeffrey Hamley Associate Deputy Director, BIE, Division of Performance and Accountability (DPA)

• Report from Donald Griffin, Supervisory Education Specialist, BIE/DPA

• Discussion with BIE Senior management to discuss special education topics related regarding students with disabilities

• Work on priorities, advice and recommendations for 2019

• Public comments (via teleconference call, Friday, May 3, 2019 meeting only *)

* During the May 3, 2019, meeting, time has been set aside for public comment via conference call from 11:00 a.m. to 11:30 a.m. Mountain Time. The call-in information is: telephone number 1-888-417-0376, passcode 1509140. Public comments can also be made in-person at the meeting site, emailed to the DFO at jennifer.davis@bie.edu, or faxed to (602) 265-0293 to the attention of Jennifer Davis, DFO, or mailed or hand-delivered to the Bureau of Indian Education, Attention: Jennifer Davis, DFO, 2600 N Central Avenue, Suite 800, Phoenix, Arizona 85004.

Authority: 5 U.S.C. Appendix 5; 20 U.S.C. 1400 et seq.

Dated: March 29, 2019.
Tara M. Sweeney,
Assistant Secretary—Indian Affairs.

[FR Doc. 2019-07438 Filed 4-12-19; 8:45 am]

BILLING CODE 4337-15-P